OFFICE OF PERSONNEL MANAGEMENT

[Docket ID: OPM-2023-0040]

Submission for Review: 3206-0235, Letter Reply To Request for Information, RI 20-64; Former Spouse Survivor Annuity Election, RI 20-64A; Information on Electing a Survivor Annuity for Your Former Spouse, RI 20-64B

AGENCY: Office of Personnel Management.

ACTION: 60-Day notice and request for comments.

SUMMARY: The Office of Personnel Management (OPM), Retirement Services, offers the general public and other Federal agencies the opportunity to comment on the review of an expiring information collection request (ICR) without change: Letter Reply to Request for Information, RI 20-64; Former Spouse Survivor Annuity Election, RI 20-64A; and Information on Electing a Survivor Annuity for Your Former Spouse, RI 20-64B.

DATES: Comments are encouraged and will be accepted until January 16, 2024.

ADDRESSES: You may submit comments, identified by docket number and title, by the following method:

• Federal Rulemaking Portal: https://www.regulations.gov. Follow the instructions for submitting comments.

All submissions received must include the agency name and docket number for this document. The general policy for comments and other submissions from members of the public is to make these submissions available for public viewing at https://www.regulations.gov as they are received without change, including any personal identifiers or contact information.

FOR FURTHER INFORMATION CONTACT: A copy of this ICR with applicable supporting documentation, may be obtained by contacting the Retirement Services Publications Team, Office of Personnel Management, 1900 E Street NW, Room 3316-L, Washington, DC 20415, Attention: Cyrus S. Benson, or sent by email to Cyrus.Benson@opm.gov or faxed to (202) 606-0910 or reached via telephone at (202) 936-0401.

SUPPLEMENTARY INFORMATION: As required by the Paperwork Reduction Act of 1995 (Pub. L. 104-13, 44 U.S.C. chapter 35) as amended by the Clinger-Cohen Act (Pub. L. 104-106), OPM is soliciting comments for this collection (OMB No. 3206-0235). OPM is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

OPM uses RI 20-64, Letter Reply to Request for Information, to explain the annuity reductions required to pay for the cost of a former spouse survivor annuity benefit under the Civil Service Retirement System (CSRS), and to provide annuitants with information about what the beginning rate of the survivor annuity would be if the annuitant ultimately elects a former spouse survivor annuity benefit. OPM uses RI 20-64A, Former Spouse Survivor Annuity Election, to obtain an annuitant's former spouse survivor annuity election. RI 20-64B, Information on Electing a Survivor Annuity for Your Former Spouse, is a pamphlet that provides important information to retirees who want to provide a CSRS survivor annuity for a former spouse.

Analysis

Agency: Office of Personnel Management, Retirement Services.

Title: Letter Reply to Request for Information; Former Spouse Survivor Annuity Election.

OMB Number: 3206-0235.

Frequency: On occasion.

Affected Public: Individuals or households.

Number of Respondents: 38.

Estimated Time per Respondent: 45 minutes for RI 20-64A and 8 minutes for RI 20-64.

Total Burden Hours: 24 hours.

Office of Personnel Management.
Kayyonne Marston,
Federal Register Liaison.

[FR Doc. 2023-25061 Filed 11-13-23; 8:45 am]

BILLING CODE 6325-38-P